DEPARTMENT OF THE INTERIOR

Fish and Wildlife Service

[FWS-R4-ES-2023-N025; FXES11140400000-223-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by April 24, 2023.

ADDRESSES:

Reviewing Documents: Submit requests for copies of applications and other information submitted with the applications to Karen Marlowe (see FOR FURTHER INFORMATION CONTACT). All requests and comments should specify the applicant name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, 404-679-7097 (telephone) or karen_marlowe@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a) and the Freedom of Information Act (5 U.S.C. 552).

Background

With some exceptions, the ESA prohibits take of listed species unless a Federal permit is issued that authorizes such take. The ESA's definition of “take” includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES812344-7 | Pennington and Associates, Inc.; Cookeville, TN | Fishes: amber darter (Percina antesella), blackside dace (Phoxinus cumberlandensis), blue shiner (Cyprinella caerulea), bluemask darter (Etheostoma akatulo), boulder darter (Etheostoma wapiti), chucky madtom (Noturus crypticus), Conasauga logperch (Percina jenkinsi), Cumberland darter (Etheostoma susanae), duskytail darter (Etheostoma percnurum), laurel dace (Chrosomus saylori), palezone shiner (Notropis albizonatus), pygmy madtom (Noturus stanauli), and smoky madtom (Noturus baileyi); Mussels: Alabama lampmussel (Lampsilis virescens), Alabama moccansinshell (Medionidus acutissimus), Appalachian elktoe (Alasmidonta raveneliana), Appalachian monkeyface (Theliderma sparsa), birdwing pearlymussel (Lemiox rimosus), clubshell (Pleurobema clava), Coosa moccasinshell (Medionidus parvulus), cracking pearlymussel (Hemistena lata), Cumberland bean (Villosa trabalis), Cumberland elktoe (Alasmidonta atropurpurea), Cumberland monkeyface (Theliderma intermedia), Cumberland pigtoe (Pleuronaia gibber), Cumberlandian combshell (Epioblasma brevidens), dromedary pearlymussel (Dromus dromas), fanshell (Cyprogenia stegaria), finelined pocketbook (Hamiota altilis), finerayed pigtoe (Fusconaia cuneolus), fluted kidneyshell (Ptychobranchus subtentus), Georgia pigtoe (Pleurobema hanleyianum), littlewing | Alabama, Georgia, Kentucky, North Carolina, Tennessee, and Virginia | Presence/probable absence surveys, population estimates, and age class determinations | Fishes: capture, handle, identify, and release; Mussels: capture, handle, identify, release, and salvage relic shells; Snails: capture, handle, identify, and release; Crustaceans: capture, handle, identify, measure, sex, and release | Renewal.
|  | pearlymussel (Pegias fabula), orangefoot pimpleback (Plethobasus cooperianus), ovate clubshell (Pleurobema perovatum), oyster mussel (Epioblasma capsaeformis), pale lilliput (Toxolasma cylindrellus), pink mucket (Lampsilis abrupta), purple bean (Villosa perpurpurea), purple cat's paw (Epioblasma obliquata), rayed bean (Villosa fabalis), ring pink (Obovaria retusa), rough pigtoe (Pleurobema plenum), rough rabbitsfoot (Quadrula cylindrica strigillata), scaleshell (Leptodea leptodon), sheepnose (Plethobasus cyphyus), shiny pigtoe (Fusconaia cor), slabside pearlymussel (Pleuronaia dolabelloides), snuffbox mussel (Epioblasma triquetra), southern acornshell (Epioblasma othcaloogensis), southern pigtoe (Pleurobema georgianum), spectaclecase (Cumberlandia monodonta), tan riffleshell (Epioblasma florentina walkeri [=E. walkeri]), triangular kidneyshell (Ptychobranchus greenii), upland combshell (Epioblasma metastriata), white wartyback (Plethobasus cicatricosus), and winged mapleleaf (Quadrula fragosa); Snails: Anthony's riversnail (Athearnia anthonyi) and royal marstonia (Marstonia ogmorhaphe); Crustaceans: Nashville crayfish (Orconectes shoupi).
ES11866B-1 | Francis Marion and Sumter National Forests, U.S. Forest Service; Columbia, SC | Red-cockaded woodpecker (Picoides borealis) and American chaffseed (Schwalbea americana) | South Carolina | Red-cockaded woodpecker: population management and monitoring; American chaffseed: germination and reintroduction | Red-cockaded woodpecker: capture, band, drill nest cavities, install inserts and restrictors, install snake and squirrel excluders, monitor nest cavities and artificial nest cavities, recapture, and translocate; American chaffseed: collect seeds | Renewal and amendment.
PER0388631-0 | Gordon-Bryon Stuart Marsh; Raleigh, NC | Amphibians: Neuse River waterdog (Necturus lewisi); Fishes: Carolina madtom (Noturus furiosus) and Roanoke logperch (Percina rex); Mussels: Atlantic pigtoe (Fusconaia masoni), dwarf wedgemussel (Alasmidonta heterodon), Tar River spinymussel (Parvaspina steinstansana), and yellow lance (Elliptio lanceolata) | North Carolina and Virginia | Presence/probable absence surveys | Amphibians and Fishes: capture, handle, identify, mark, and release; Mussels: capture, handle, identify, mark, release, and salvage relic shells | New.
ES67197D-2 | Tyler Black; Chapel Hill, NC | Neuse River waterdog (Necturus lewisi), Carolina madtom (Noturus furiosus), and sickle darter (Percina williamsi) | North Carolina, Tennessee, and Virginia | Presence/probable absence surveys | Capture, handle, identify, and release | Amendment.
ES206872-12 | Joy O'Keefe, University of Illinois at Urbana-Champaign; Urbana, IL | Gray bat (Myotis grisescens), Indiana bat (Myotis sodalis), northern long-eared bat (Myotis septentrionalis), tricolored bat (Perimyotis subflavus), and Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys, studies to document habitat use, population monitoring, and to evaluate potential impacts of white-nose syndrome or other threats | Enter hibernacula or maternity roost caves, capture with mist nets or harp traps, handle, identify, band, radio tag, collect hair samples, swab, use tape to collect mites, wing punch, and release | Renewal and amendment.
ES38792A-3 | U.S. Army; Fort Gordon, GA | Red-cockaded woodpecker (Picoides borealis) | Fort Gordon, Fort Stewart, and Fort Benning, Georgia; Apalachicola and Ocala National Forests, Florida; and Fort Bragg, North Carolina | Population management and monitoring | Capture, band, drill nest cavities, install inserts and restrictors, install snake and squirrel excluders, monitor nest cavities and artificial nest cavities, recapture, and translocate | Renewal and amendment.
ES05565B-2 | UT-Battelle Corp.; Oak Ridge, TN | Gray bat (Myotis grisescens), Indiana bat (Myotis sodalis), northern long-eared bat (Myotis septentrionalis), and tricolored bat (Perimyotis subflavus) | Oak Ridge Reservation, Tennessee | Presence/probable absence surveys | Capture with mist nets, handle, identify, band, wing punch, salvage, and release | Renewal and amendment.
ES56515D-1 | Leslie Meade; Richmond, KY | Gray bat (Myotis grisescens), Indiana bat (Myotis sodalis), northern long-eared bat (Myotis septentrionalis), Ozark big-eared bat (Corynorhinus townsendii ingens), and Virginia big-eared bat (Corynorhinus townsendii virginianus) | Arkansas, Connecticut, Delaware, Kansas, Louisiana, Maine, Maryland, Massachusetts, Minnesota, Montana, Nebraska, New Hampshire, New Jersey, New York, North Dakota, Oklahoma, Pennsylvania, Rhode Island, South Dakota, Vermont, Virginia, West Virginia, Wisconsin, and Wyoming | Presence/probable absence surveys, studies to document habitat use, population monitoring, and studies to evaluate potential impacts of white-nose syndrome or other threats | Enter hibernacula or maternity roost caves, capture with harp traps, collect hair samples, wing punch, swab, and release | Amendment.
ES089074-5 | Corblu Ecology Group, LLC; Woodstock, GA | Fishes: amber darter (Percina antesella), blue shiner (Cyprinella caerulea), Cherokee darter (Etheostoma scotti), Conasauga logperch (Percina jenkinsi), Etowah darter (Etheostoma etowahae), and goldline darter (Percina aurolineata); Mussels: Alabama moccasinshell (Medionidus acutissimus), Coosa moccasinshell (Medionidus parvulus), fat threeridge (Amblema neislerii), finelined pocketbook (Hamiota altilis), Georgia pigtoe (Pleurobema hanleyianum), Gulf moccasinshell (Medionidus penicillatus), oval pigtoe (Pleurobema pyriforme), purple bankclimber (Elliptoideus sloatianus), shinyrayed pocketbook (Hamiota subangulata), southern clubshell (Pleurobema decisum), southern pigtoe (Pleurobema georgianum), and triangular kidneyshell (Ptychobranchus greenii) | Alabama and Georgia | Presence/probable absence surveys and population monitoring | Fishes: capture, handle, identify, and release; Mussels: capture, handle, identify, release, and salvage relic shells | Renewal.
ES054973-7 | Nicholas Haddad, Michigan State University; Hickory Corners, MI | Mitchell's satyr butterfly (Neonympha mitchellii mitchellii) | Alabama, Michigan, Mississippi, and North Carolina | Scientific research | Collect caterpillars and sacrifice or retain all lab-reared caterpillars | Amendment.
ES56746B-5 | Joseph Johnson; Cincinnati, OH | Gray bat (Myotis grisescens), Indiana bat (Myotis sodalis), northern long-eared bat (Myotis septentrionalis), tricolored bat (Perimyotis subflavus), and Virginia big-eared bat (Corynorhinus townsendii virginianus) | Alabama, Kentucky, Ohio, Pennsylvania, and West Virginia | Presence/probable absence surveys, investigate impacts of white-nose syndrome and habitat management on bat communities, migration studies, and genetic analyses | Enter hibernacula and maternity roost caves, capture with mist nets or harp traps, handle, identify, band, radio tag, wing punch, and release | Renewal and amendment.
ES37652B-3 | Blue Ridge Parkway, National Park Service; Asheville, NC | Spruce-fir moss spider (Microhexura montivaga) and rusty patched bumble bee (Bombus affinis) | North Carolina and Virginia | Presence/probable absence surveys | Spruce-fir moss spider: lift bryophyte mats; rusty patched bumble bee: capture, handle, identify, and release | Amendment.
ES060988-5 | U.S. Army; Fort Jackson, SC | Red-cockaded woodpecker (Picoides borealis) | South Carolina | Population management and monitoring | Capture, band, monitor nest cavities, construct and monitor artificial nest cavities and restrictors, translocate, recapture, and release | Renewal and amendment.
ES43261B-1 | Ann Altman; Columbia, SC | Carolina heelsplitter (Lasmigona decorata) | North Carolina and South Carolina | Presence/probable absence surveys | Capture, handle, identify, release, and salvage relic shells | Renewal.
ES79580A-4 | Jason Butler; Midway, KY | Mammals: gray bat (Myotis grisescens), Indiana bat (Myotis sodalis), and northern long-eared bat (Myotis septentrionalis); Fishes: blackside dace (Phoxinus cumberlandensis) and Cumberland darter (Etheostoma susanae) | Kentucky, Tennessee, Virginia, and West Virginia | Presence/probable absence surveys | Mammals: enter hibernacula or maternity roost caves, capture with mist nets or harp traps, handle, identify, band, radio tag, salvage dead bats, and release; Fishes: capture, handle, identify, and release | Renewal.
ES100626-10 | Selby Environmental, Inc.; Decatur, AL | Reptiles: flattened musk turtle (Sternotherus depressus); Fishes: amber darter (Percina antesella), blue shiner (Cyprinella caerulea), boulder darter (Etheostoma wapiti), Cahaba shiner (Notropis cahabae), chucky madtom (Noturus crypticus), Cumberland darter (Etheostoma susanae), goldline darter (Percina aurolineata), laurel dace (Chrosomus saylori), palezone shiner (Notropis albizonatus), rush darter (Etheostoma phytophilum), spring pygmy sunfish (Elassoma alabamae), vermilion darter (Etheostoma chermocki), and watercress darter (Etheostoma nuchale); Mussels: Alabama lampmussel (Lampsilis virescens), Alabama moccasinshell (Medionidus acutissimus), Alabama pearlshell (Margaritifera marrianae), Altamaha spinymussel (Elliptio spinosa), Appalachian elktoe (Alasmidonta raveneliana), Appalachian monkeyface (Theliderma sparsa), black clubshell (Pleurobema curtum), Chipola slabshell (Elliptio chipolaensis), Choctaw bean (Obovaria choctawensis), clubshell (Pleurobema clava), Coosa moccasinshell (Medionidus parvulus), cracking pearlymussel (Hemistena lata), Cumberland bean (Villosa trabalis), Cumberland elktoe (Alasmidonta atropurpurea), Cumberland monkeyface (Theliderma intermedia), Cumberland pigtoe (Pleuronaia gibber), Cumberlandian combshell | Alabama, Arkansas, Florida, Georgia, Illinois, Indiana, Iowa, Kansas, Kentucky, Louisiana, Michigan, Minnesota, Mississippi, Missouri, Nebraska, New Mexico, New York, North Carolina, Ohio, Oklahoma, Pennsylvania, South Dakota, Tennessee, Texas, Virginia, West Virginia, and Wisconsin | Presence/probable absence surveys | Reptiles: flattened musk turtle: capture, identify, measure, and release; Fishes: capture, handle, identify, and release; Mussels: capture, handle, identify, release, and salvage relic shells; Snails: capture, handle, identify, release, collect vouchers, and salvage relic shells; Crustaceans: Nashville crayfish: capture, identify, measure, sex, and release | Renewal.
|  | (Epioblasma brevidens), dark pigtoe (Pleurobema furvum), dromedary pearlymussel (Dromus dromas), fanshell (Cyprogenia stegaria), fat pocketbook (Potamilus capax), fat threeridge (Amblema neislerii), finelined pocketbook (Hamiota altilis), finerayed pigtoe (Fusconaia cuneolus), flat pigtoe (Pleurobema marshalli), fluted kidneyshell (Ptychobranchus subtentus), fuzzy pigtoe (Pleurobema strodeanum), Georgia pigtoe (Pleurobema hanleyianum), green blossom (Epioblasma torulosa gubernaculum), Gulf moccasinshell (Medionidus penicillatus), heavy pigtoe (Pleurobema taitianum), inflated heelsplitter (Potamilus inflatus), littlewing pearlymussel (Pegias fabula), narrow pigtoe (Fusconaia escambia), Neosho mucket (Lampsilis rafinesqueana), Ochlockonee moccasinshell (Medionidus simpsonianus), orangefoot pimpleback (Plethobasus cooperianus), orangenacre mucket (Hamiota perovalis), Ouachita rock pocketbook (Arcidens wheeleri), oval pigtoe (Pleurobema pyriforme), ovate clubshell (Pleurobema perovatum), pale lilliput (Toxolasma cylindrellus), pink mucket (Lampsilis abrupta), purple bean (Villosa perpurpurea), purple cat's paw (Epioblasma obliquata), rabbitsfoot (Quadrula cylindrica cylindrica), rayed bean (Villosa fabalis), ring pink (Obovaria retusa), rough pigtoe (Pleurobema plenum), round ebonyshell
|  | (Reginaia rotulata), rought rabbitsfoot (Quadrula cylindrica strigillata), scaleshell (Leptodea leptodon), shiny pigtoe (Fusconaia cor), shinyrayed pocketbook (Hamiota subangulata), slabside pearlymussel (Pleuronaia dolabelloides), southern acornshell (Epioblasma othcaloogensis), southern clubshell (Pleurobema decisum), southern combshell (Epioblasma penita), southern kidneyshell (Ptychobranchus jonesi), southern pigtoe (Pleurobema georgianum), southern sandshell (Hamiota australis), spectaclecase (Cumberlandia monodonta), stirrupshell (Quadrula stapes), tapered pigtoe (Fusconaia burkei), triangular kidneyshell (Ptychobranchus greenii), tubercled blossom (Epioblasma torulosa torulosa), turgid blossom (Epioblasma turgidula), upland combshell (Epioblasma metastriata), white wartyback (Plethobasus cicatricosus), and winged mapleleaf (Quadrula fragosa); Snails: Anthony's riversnail (Athearnia anthonyi), armored snail (Marstonia pachyta), cylindrical lioplax (Lioplax cyclostomaformis), diamond tryonia (Pseudotryonia adamantina), flat pebblesnail (Lepyrium showalteri), Gonzales tryonia (Tryonia circumstriata [=stocktonensis]), interrupted rocksnail
|  | (Leptoxis foremani), lacy elimia (Elimia crenatella), painted rocksnail (Leptoxis taeniata), Pecos assimenia snail (Assiminea pecos), phantom tryonia (Tryonia cheatumi), plicate rocksnail (Leptoxis plicata), rough hornsnail (Pleurocera foremani), round rocksnail (Leptoxis ampla), royal marstonia (Marstonia ogmorhaphe), slender campeloma (Campeloma decampi), and tulotoma snail (Tulotoma magnifica); Crustaceans: Nashville crayfish (Orconectes shoupi).
PER1408431-0 | Carnivorous Plant Nursery; Smithsburg, MD | Sarracenia oreophila (green pitcher-plant), Sarracenia rubra ssp. alabamensis (Alabama canebrake pitcher-plant), and Sarracenia rubra ssp. jonesii (mountain sweet pitcher-plant) | Maryland | Interstate commerce | Sell artificially propagated plants in interstate commerce | New.
ES38397A-2 | Kathryn Craven; Savannah, GA | Green sea turtle (Chelonia mydas), hawksbill sea turtle (Eretmochelys imbricata), Kemp's ridley sea turtle (Lepidochelys kempii), leatherback sea turtle (Dermochelys coriacea), and loggerhead sea turtle (Caretta caretta) | Georgia | Monitor and evaluate nest hatching success and conduct scientific research | Salvage hatched eggs, inviable eggs, and dead embryos, and collect cloacal swabs from wild or captive individuals | Renewal and amendment.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

If we decide to issue a permit to an applicant listed in this notice, we will publish a notice in the Federal Register.

Authority

We publish this notice under section 10(c) of the Endangered Species Act of 1973, as amended (16 U.S.C. 1531 et seq.).

John Tirpak,
Deputy Assistant Regional Director, Ecological Services, Southeast Region.

[FR Doc. 2023-05907 Filed 3-22-23; 8:45 am]

BILLING CODE 4333-15-P